DEPARTMENT OF LABOR

Employment and Training Administration

20 CFR Part 655

RIN 1290-AA31

Department of Labor Federal Civil Penalties Inflation Adjustment Act Catch-Up Adjustments; Correction

AGENCY: Employment and Training Administration, Department of Labor.

ACTION: Interim final rule; correction.

SUMMARY: The U.S. Department of Labor (DOL) is correcting an interim final rule published in the Federal Register on July 1, 2016 (81 FR 43430). The interim final rule adjusts the amounts of civil penalties assessed or enforced in its regulations pursuant to the Federal Civil Penalties Inflation Adjustment Act of 1990 as amended by the Federal Civil Penalties Inflation Adjustment Act Improvements Act of 2015. That document inadvertently provided an incorrect authority citation when revising the general authority section for 20 CFR part 655. This document corrects the interim final rule by revising the appropriate authority section.

DATES: Effective Date: August 1, 2016.

FOR FURTHER INFORMATION CONTACT: Pamela Peters, Program Analyst, U.S. Department of Labor, Room S-2312, 200 Constitution Avenue NW., Washington, DC 20210; telephone: (202) 693-5959 (this is not a toll-free number).

SUPPLEMENTARY INFORMATION: DOL published a document in the Federal Register on July 1, 2016 (81 FR 43430), which made inadvertent revisions to the authority citation for part 655.

In FR Doc. 2016-15378, published on July 1, 2016, (81 FR 43430), make the following correction:

PART 655—TEMPORARY EMPLOYMENT OF FOREIGN WORKERS IN THE UNITED STATES [Corrected]

1. On page 43448, in the second and third columns, in part 655—Temporary Employment of Foreign Workers in the United States, the general authority citation is corrected to read as follows:

Authority: Section 655.0 issued under 8 U.S.C. 1101(a)(15)(E)(iii), 1101(a)(15)(H)(i) and (ii), 8 U.S.C. 1103(a)(6), 1182(m), (n) and (t), 1184(c), (g), and (j), 1188, and 1288(c) and (d); sec. 3(c)(1), Pub. L. 101-238, 103 Stat. 2099, 2102 (8 U.S.C. 1182 note); sec. 221(a), Pub. L. 101-649, 104 Stat. 4978, 5027 (8 U.S.C. 1184 note); sec. 303(a)(8), Pub. L. 102-232, 105 Stat. 1733, 1748 (8 U.S.C. 1101 note); sec. 323(c), Pub. L. 103-206, 107 Stat. 2428; sec. 412(e), Pub. L. 105-277, 112 Stat. 2681 (8 U.S.C. 1182 note); sec. 2(d), Pub. L. 106-95, 113 Stat. 1312, 1316 (8 U.S.C. 1182 note); 29 U.S.C. 49k; Pub. L. 107-296, 116 Stat. 2135, as amended; Pub. L. 109-423, 120 Stat. 2900; 8 CFR 214.2(h)(4)(i); and 8 CFR 214.2(h)(6)(iii).

Subpart A issued under 8 CFR 214.2(h).

Subpart B issued under 8 U.S.C. 1101(a)(15)(H)(ii)(a), 1184(c), and 1188; and 8 CFR 214.2(h).

Subparts F and G issued under 8 U.S.C. 1288(c) and (d); sec. 323(c), Pub. L. 103-206, 107 Stat. 2428; and 28 U.S.C. 2461 note, Pub. L. 114-74 at section 701.

Subparts H and I issued under 8 U.S.C. 1101(a)(15)(H)(i)(b) and (b)(1), 1182(n) and (t), and 1184(g) and (j); sec. 303(a)(8), Pub. L. 102-232, 105 Stat. 1733, 1748 (8 U.S.C. 1101 note); sec. 412(e), Pub. L. 105-277, 112 Stat. 2681; 8 CFR 214.2(h); and 28 U.S.C. 2461 note, Pub. L. 114-74 at section 701.

Subparts L and M issued under 8 U.S.C. 1101(a)(15)(H)(i)(c) and 1182(m); sec. 2(d), Pub. L. 106-95, 113 Stat. 1312, 1316 (8 U.S.C. 1182 note); Pub. L. 109-423, 120 Stat. 2900; and 8 CFR 214.2(h).

Signed at Washington, DC this 20th day of July, 2016.
Thomas E. Perez,
Secretary, U.S. Department of Labor.

[FR Doc. 2016-17552 Filed 7-25-16; 8:45 am]

BILLING CODE 4510-HL-P